Title 3—

The President

Proclamation 8607 of November 30, 2010

Critical Infrastructure Protection Month, 2010

By the President of the United States of America

A Proclamation

During Critical Infrastructure Protection Month, we highlight the vast network of systems and structures that sustain the vigor and vitality of our Nation. Critical infrastructure includes the assets, networks, and functions—both physical and virtual—essential to the security, economic welfare, public health, and safety of the United States.

The Department of Homeland Security leads an unprecedented national partnership dedicated to the security and resilience of our critical infrastructure. The National Infrastructure Protection Plan integrates a multitude of diverse stakeholders—Federal, State, local, territorial, and tribal governments; private sector critical infrastructure owners and operators; first responders; and the public—to identify and protect our infrastructure from hazards or attack. These critical infrastructure partnerships continue to build their information-sharing capacity and develop actions that strengthen our Nation’s preparedness, response capabilities, and recovery resources.

My Administration is committed to delivering the necessary information, tools, and resources to areas where critical infrastructure exists in order to maintain and enhance its security and resilience. I have proposed a bold plan for renewing and expanding our Nation’s infrastructure, including its critical infrastructure, in the coming years. Additionally, we must work to empower communities, an integral part of critical infrastructure security, to work with local infrastructure owners and operators, which will make our physical and cyber infrastructure more resilient. Working together, we can raise awareness of the important role our critical infrastructure plays in sustaining the American way of life and develop actions to protect these vital resources.

NOW, THEREFORE, I, BARACK OBAMA, President of the United States of America, by virtue of the authority vested in me by the Constitution and the laws of the United States, do hereby proclaim December 2010 as Critical Infrastructure Protection Month. I call upon the people of the United States to recognize the importance of protecting our Nation’s resources and to observe this month with appropriate events and training to enhance our national security and resilience.

IN WITNESS WHEREOF, I have hereunto set my hand this thirtieth day of November, in the year of our Lord two thousand ten, and of the Independence of the United States of America the two hundred and thirty-fifth.

[FR Doc. 2010-30581

Filed 12-2-10; 11:15 am]

Billing code 3195-W1-P